DEPARTMENT OF JUSTICE

Antitrust Division

Notice Pursuant to the National Cooperative Research and Production Act of 1993—an Innovative Knowledge System for Rapid Expansion of Net Shape Manufacturing Industry Via Powder Metal Injection Molding

Notice is hereby given that, on June 21, 2000, pursuant to section 6(a) of the National Cooperative Research and Production Act of 1993, 15 U.S.C. 4301 et seq. (“the Act”), Honeywell International, Inc., has filed written notifications simultaneously with the Attorney General and the Federal Trade Commission disclosing (1) the identities of the parties and (2) the nature and objectives of the venture. The notifications were filed for the propose of invoking the Act's provisions limiting the recovery of antitrust plaintiffs to actual damages under specified circumstances. Pursuant to Section 6(b) of the Act, the identities of the parties are Honeywell International, Inc., Morristown, NJ; Ingersoll-Rand, Inc., Huntersville, NC; Polymer Technologies, Inc., Clifton, NJ; CM Furnaces, Inc., Bloomfield, NJ; CompAS Controls, Inc., Indiana, PA; and Pennsylvania State University, University Park, PA. The purpose of this joint venture is to conduct research to create a materials and manufacturing technology base and a knowledge management system to produce thick, complex, high-quality metal products by low-cost powder metal injection molding.

Constance K. Robinson,
Director of Operations, Antitrust Division.

[FR Doc. 01-5710 Filed 3-7-01; 8:45 am]

BILLING CODE 4410-11-M